INTERNATIONAL TRADE COMMISSION

[Investigation No. 731-TA-1185 Preliminary]

Certain Steel Nails From the United Arab Emirates

Determination

On the basis of the record ¹ developed in the subject investigation, the United States International Trade Commission (Commission) determines, pursuant to section 733(a) of the Tariff Act of 1930 (19 U.S.C. 1673b(a)) (the Act), that there is a reasonable indication that an industry in the United States is materially injured by reason of imports from the United Arab Emirates of certain steel nails, provided for in subheadings 7317.00.55, 7317.00.65 and 7317.00.75 of the Harmonized Tariff Schedule of the United States, that are alleged to be sold in the United States at less than fair value (LTFV).²

¹ The record is defined in sec. 207.2(f) of the Commission's Rules of Practice and Procedure (19 CFR 207.2(f)).

² Chairman Deanna Tanner Okun and Commissioner Daniel R. Pearson determined that there is no reasonable indication that an industry in the United States is materially injured or threatened with material injury.

Pursuant to section 207.18 of the Commission's rules, the Commission also gives notice of the commencement of the final phase of its investigation. The Commission will issue a final phase notice of scheduling, which will be published in the Federal Register as provided in section 207.21 of the Commission's rules, upon notice from the Department of Commerce (Commerce) of an affirmative preliminary determination in the investigation under section 733(b) of the Act, or, if the preliminary determination is negative, upon notice of an affirmative final determination in that investigation under section 735(a) of the Act. Parties that filed entries of appearance in the preliminary phase of the investigation need not enter a separate appearance for the final phase of the investigation. Industrial users, and, if the merchandise under investigation is sold at the retail level, representative consumer organizations have the right to appear as parties in Commission antidumping and countervailing duty investigations. The Secretary will prepare a public service list containing the names and addresses of all persons, or their representatives, who are parties to the investigation.

Background

On March 31, 2011, a petition was filed with the Commission and Commerce by Mid Continent Nail Corporation, Poplar Bluff, Missouri, alleging that an industry in the United States is materially injured or threatened with material injury by reason of LTFV imports of certain steel nails from the United Arab Emirates. Accordingly, effective March 31, 2011, the Commission instituted antidumping duty investigation No. 731-TA-1185 (Preliminary).

Notice of the institution of the Commission's investigation and of a public conference to be held in connection therewith was given by posting copies of the notice in the Office of the Secretary, U.S. International Trade Commission, Washington, DC, and by publishing the notice in the Federal Register of April 6, 2011 (76 FR 19124). The conference was held in Washington, DC, on April 21, 2011, and all persons who requested the opportunity were permitted to appear in person or by counsel.

The Commission transmitted its determination in this investigation to the Secretary of Commerce on May 16, 2011. The views of the Commission are contained in USITC Publication 4235 (May 2011), entitled Certain Steel Nails from the United Arab Emirates: Investigation No. 731-TA-1185 (Preliminary).

By order of the Commission.
Issued: May 16, 2011.
James R. Holbein,
Acting Secretary to the Commission.

[FR Doc. 2011-12381 Filed 5-19-11; 8:45 am]

BILLING CODE P